DEPARTMENT OF STATE

[Public Notice: 11761]

Notice of Charter Renewal for the Cultural Property Advisory Committee

The Charter of the Department of State's Cultural Property Advisory Committee has been renewed for an additional two years. The Department of State has renewed the Charter of the Cultural Property Advisory Committee. The Committee was established by the Convention on Cultural Property Implementation Act of 1983, 19 U.S.C. 2601 et seq., to provide recommendations regarding requests for assistance from foreign governments under the UNESCO 1970 Convention on the Means of Prohibiting and Preventing the Illicit Import, Export and Transfer of Ownership of Cultural Property. The Presidentially appointed members include individuals representing the interests of museums; experts in the fields of archaeology, anthropology, or related areas; experts in the international sale of archaeological, ethnological, and other cultural property; and individuals who represent the interests of the general public. The renewed Charter was filed with Congress on March 22, 2022.

FOR FURTHER INFORMATION CONTACT: Cultural Heritage Center, U.S. Department of State, Bureau of Educational and Cultural Affairs, 2200 C Street NW, Washington, DC 20522. Telephone: (202) 702-1166; Email culprop@state.gov.

Allison Davis,
Executive Director, Cultural Property Advisory Committee, Department of State.

[FR Doc. 2022-12866 Filed 6-14-22; 8:45 am]

BILLING CODE 4710-05-P